DEPARTMENT OF COMMERCE

Foreign-Trade Zones Board

[B-71-2021]

Foreign-Trade Zone (FTZ) 38—Spartanburg County, South Carolina; Notification of Proposed Production Activity; Swafford Warehousing, Inc. (Medical Kits); Greer, South Carolina

The South Carolina State Ports Authority, grantee of FTZ 38, submitted a notification of proposed production activity to the FTZ Board (the Board) on behalf of Swafford Warehousing, Inc., located in Greer, South Carolina under FTZ 38. The notification conforming to the requirements of the Board's regulations (15 CFR 400.22) was received on November 1, 2021.

Pursuant to 15 CFR 400.14(b), FTZ production activity would be limited to the specific foreign-status materials/components and specific finished product, medical kits (duty-free), described in the submitted notification (summarized below) and subsequently authorized by the Board. The benefits that may stem from conducting production activity under FTZ procedures are explained in the background section of the Board's website—accessible via www.trade.gov/ftz.

The proposed foreign-status materials and components include: Lubricating jelly; catheters; alcohol-free sanitizing wipe sachets; burn film cling roll, plastic; chest drain kit (includes: Sutures, blunt forceps, chest drainage bag); hypodermic needles; sterile sutures; bandages, cotton adhesive; procedure masks; retractors; pocket bougies, endotracheal tubes; shielded intravenous (IV) catheters; instant ice packs; syringes; nasal cannulas; kinesiology tape; oxygen masks; gauze, sterile wound dressing, cotton mesh with paraffin wax blend; hygienic hand sanitizer; quick release tourniquets; sharpsafe boxes; sterile IV giving set for parenteral administration of infusions (IV fluids); forceps; film ported cannulas; glucometers; paper utility drapes; latex gloves; surgical cricothyrotomy sets (includes: Scalpels; syringes; tracheal tubes; extension tubing; tracheal hooks and neck tape); plastic nasal airway tubes with adjustable flange, latex-free; and, scalpels (duty rate ranges from duty-free to 5.3%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 20, 2021.

A copy of the notification will be available for public inspection in the “Online FTZ Information System” section of the Board's website.

For further information, contact Diane Finver at Diane.Finver@trade.gov.

Dated: November 2, 2021.
Andrew McGilvray,
Executive Secretary.

[FR Doc. 2021-24305 Filed 11-5-21; 8:45 am]

BILLING CODE 3510-DS-P